DEPARTMENT OF JUSTICE

Antitrust Division

Notice Pursuant to the National Cooperative Research and Production Act of 1993—Optical Internetworking Forum

Notice is hereby given that, on august 5, 2004, pursuant to Section 6(a) of the National Cooperative Research and Production Act of 1993, 15 U.S.C. 4301 et seq. (“the Act”), Optical Internetworking Forum has filed written notifications simultaneously with the Attorney General and the Federal Trade Commission disclosing changes in its membership status. The notifications were filed for the purpose of extending the Act's provisions limiting the recovery of antitrust plaintiffs to actual damages under specified circumstances. Specifically, Scientific Atlanta, Inc., Lawrenceville, GA; Aevix Systems, Gifsur-Yvette, FRANCE; and Enigma Semiconductor, Copenhagen, DENMARK have been added as parties to this venture. Also, America Online, Reston, VA; Artisan Components, San Diego, CA; Emcore, Albuquerque, NM; Finisar Corporation, Sunnyvale, CA; Ibiden, Gifu, JAPAN; Mitretek Systems, Falls Church, VA; Sun Microsystems, Los Angeles, CA; Acuid, Midlothian, Dalkeith, UNITED KINGDOM; Agility Communications, Santa Barbara, CA; Analogix Semiconductor, Santa Clara, CA; ASTRI, Kowloon, HONG KONG-CHINA; Bit Blitz Communications, Milpitas, CA; Calient Networks, San Jose, CA; Chunghwa Telecom Labs, Tao Yuan, TAIWAN; CIVCOM, Petach-Tikvah, ISRAEL; Corrigent Systems, San Jose, CA; Corvis Corporation, Columbia, MD; Galazar Networks, Ottowa, Ontario, CANADA; Helix AG, Zurich, SWITZERLAND; Industrial Technology Research Institute, Chutung, TAIWAN; Intelligent Photonics Control, Kanata, Ontario, CANADA; Intune Technologies, Ltd., Dublin, IRELAND; KeyEye Communications, Sacramento, CA; Lumentis, Haagerston, SWEDEN; NIST, Gathersburg, MD; PhotonEx, Maynard, MA; Phyworks, Temple Quay, UNITED KINGDON; Silicon Access Networks, Ottowa, Ontario, CANADA; Tellium, Oceanport, NJ; Wavecrest Corporation, Eden Prairie, MN; Xanoptix, Merrimack, NH; Cray, Chippewa Falls, WI; Ericcson, Stockholm, SWEDEN; FiberHome Telecommunications, Wuhan, PEOPLE'S REPUBLIC OF CHINA; Intelligent Telecom, Taejon, REPUBLIC OF KOREA; ITSD, Ministry of Management Services, Victoria, British Columbia, CANDA; Marvell Semiconductor, Sunnyvale, CA; MathStar, Minnetonka, MN; Maxim Integrated Products, Sunnyvale, CA; Motorola, Austin, TX; Virtual Silicon Technology, Sunnyvale, CA; China Academy of Telecommunications Research, Beijing, PEOPLE'S REPUBLIC OF CHINA; and Georgia Institute of technology, Atlanta, GA have been dropped as parties to this venture.

Also, Photuris, Inc., Piscataway, NJ was acquired by Mahi Networks, Petaluma, CA; Procket Networks, San Jose, CA was acquired by Cisco Systems, San Jose, CA; and Velio Communications, Milpitas, CA was acquired by LSI Logic, Milpitas, CA.

No other changes have been made in either the membership or planned activity of the group research project. Membership in this group research project remains open, and Optical Internetworking Forum intends to fill additional written notification disclosing all changes in membership.

On October 5, 1998, Optical Internetworking Forum filed its original notification pursuant to Section 6(a) of the Act. The Department of Justice published a notice in the Federal Register pursuant to Section 6(b) of the Act on January 29, 1999 (64 FR 4709).

The last notification was filed with the Department on April 5, 2004. A notice was published in the Federal Register pursuant to Section 6(b) of the Act on May 3, 2004 (69 FR 24195).

Dorothy B. Fountain,
Deputy Director of Operations, Antitrust Division.

[FR Doc. 04-19770 Filed 8-27-04; 8:45 am]

BILLING CODE 4410-11-M